ENVIRONMENTAL PROTECTION AGENCY

[FRL-6913-6]

Notice of Settlement Extension: National Ambient Air Quality Standard; Sulfur Oxides Remand

AGENCY: Environmental Protection Agency (EPA).

ACTION: Notice of settlement extension.

SUMMARY: In 1998, the United States Court of Appeals for the D.C. Circuit remanded EPA's decision to not revise the National Ambient Air Quality Standard for sulfur oxides for further explanation by EPA. American Lung Association v. Browner, 134 F. 3d 388 (D.C. Cir. 1998). Subsequently, the American Lung Association (ALA) and EPA agreed that EPA would propose a response to the court's remand by summer, 1999 and that EPA would finalize its response to the remand by the end of the year 2000. In exchange, ALA agreed to not file a petition for rehearing en banc with the court and to not pursue any mandatory duty or unreasonable delay claims regarding the remand prior to January, 2001.

In September 1999, EPA and ALA met to discuss the status of the remand and agreed to extend the summer, 1999 deadline until January 15, 2000.

Since that time EPA and ALA have continued discussions and EPA has continued to work on the remand. As a result, EPA and ALA have agreed that by the end of 2000, EPA will publish a notice in the Federal Register describing the status of the remand and related activities and soliciting appropriate comment. For its part, ALA has agreed not to pursue any mandatory duty or unreasonable delay claims regarding the remand prior to January, 2001.

Dated: December 1, 2000.
Anna Wolgast,
Acting General Counsel.

[FR Doc. 00-31333 Filed 12-7-00; 8:45 am]

BILLING CODE 6560-50-P